DEPARTMENT OF COMMERCE

International Trade Administration

[A-580-809]

Circular Welded Non-Alloy Steel Pipe From the Republic of Korea: Preliminary Results of Antidumping Duty Administrative Review and Preliminary Determination of No Shipments; 2019-2020

AGENCY: Enforcement and Compliance, International Trade Administration, Department of Commerce.

SUMMARY: The Department of Commerce (Commerce) preliminarily finds that circular welded non-alloy steel pipe (CWP) from the Republic of Korea (Korea) was sold at prices below normal value. The period of review (POR) is November 1, 2019, through October 31, 2020. We invite interested parties to comment on these preliminary results.

DATES: Applicable December 7, 2021.

FOR FURTHER INFORMATION CONTACT: Dusten Hom and Richard Roberts, AD/CVD Operations, Office I, Enforcement and Compliance, International Trade Administration, U.S. Department of Commerce, 1401 Constitution Avenue NW, Washington DC 20230; telephone: (202) 482-5075 and (202) 482-3464, respectively.

SUPPLEMENTARY INFORMATION:

Background

These preliminary results are made in accordance with section 733(b) of the Tariff Act of 1930, as amended (the Act). Commerce published the notice of initiation of this administrative review on January 6, 2021.¹ Commerce selected Husteel Co., Ltd. (Husteel) and Hyundai Steel Company (Hyundai Steel) as the two mandatory respondents in this review.² On July 2, 2021, Commerce extended the time limit for issuing the preliminary results of this review by 120 days, to no later than November 30, 2021.³

¹ See Initiation of Antidumping and Countervailing Duty Administrative Reviews, 86 FR 511 (January 6, 2021).

² See Memorandum, “Antidumping Duty Administrative Review of Circular Welded Non-Alloy Steel Pipe from the Republic of Korea: Respondent Selection,” dated February 18, 2021.

³ See Memorandum, “Circular Welded Non-Alloy Steel Pipe from the Republic of Korea: Extension of Deadline for Preliminary Results of 2019-2020 Antidumping Administrative Review,” dated July 2, 2021.

For a complete description of the events that followed the initiation of this review, see the Preliminary Decision Memorandum.⁴ A list of topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of Antidumping Duty Administrative Review and Preliminary Determination of No Shipments: Circular Welded Non-Alloy Steel Pipe from the Republic of Korea: 2019-2020,” dated concurrently with these preliminary results and hereby adopted by this notice (Preliminary Decision Memorandum).

Scope of the Order ⁵

⁵ See Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (Order).

The merchandise subject to the Order is CWP from Korea. A full description of the scope, see the Preliminary Decision Memorandum.⁶

⁶ For a full description of the scope of the Order, see Preliminary Decision Memorandum.

Methodology

Commerce is conducting this review in accordance with section 751(a) of the Act. Constructed export prices have been calculated in accordance with section 772(b) of the Act. Normal value is calculated in accordance with section 773 of the Act. For a full description of the methodology underlying these preliminary results, see the Preliminary Decision Memorandum.

Preliminary Determination of No Shipments

On February 5, 2021, HiSteel Co., Ltd (HiSteel) submitted a letter certifying that it had no exports or sales of subject merchandise into the United States during the POR.⁷ U.S. Customs and Border Protection (CBP) did not have any information to contradict this claim of no shipments during the POR.⁸ Therefore, we preliminarily determine that HiSteel did not have any shipments of subject merchandise during the POR. Consistent with Commerce's practice, we will not rescind the review with respect to HiSteel but will complete the review and issue instructions to CBP based on the final results.

⁷ See HiSteel's Letter, “Administrative Review of the Antidumping Duty Order on Circular Welded Non-Alloy Steel Pipe from Korea for the 2019-20 Review Period—No Shipments Letter,” dated February 5, 2021.

⁸ See Memorandum, “Welded Non-Alloy Steel Pipe from the Republic of Korea (A-580-809), No Shipment Inquiry for HiSteel Co., Ltd. during the period 11/01/2019 through 10/31/2020,” dated November 8, 2021

Rate for Non-Selected Companies

The statute and Commerce's regulations do not address the rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.” In this review, we preliminarily calculated dumping margins for the two mandatory respondents, Hyundai Steel and Husteel, of 1.97 and 4.07 percent, respectively, and we have assigned to the non-selected companies a rate of 3.21 percent, which is the weighted-average dumping margins of Husteel and Hyundai Steel weighted by their publicly ranged U.S. sales values.⁹

⁹ With two respondents under examination, Commerce normally calculates (A) a weighted-average of the dumping margins calculated for the examined respondents; (B) a simple average of the dumping margins calculated for the examined respondents; and (C) a weighted-average of the dumping margins calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of the Administrative Review

Commerce preliminarily finds that the following weighted-average dumping margins exist for the period November 1, 2019, through October 31, 2020:

Producer/exporter | Weighted- average dumping margin (percent)
Husteel Co., Ltd | 4.07
Hyundai Steel Company ¹⁰ | 1.97
Review-Specific Average Rate Applicable to the Following Companies
Other Respondents ¹¹ | 3.21

Disclosure

¹⁰ This company is also known as Hyundai Steel Corporation; Hyundai Steel; and Hyundai Steel (Pipe Division).

¹¹ See Appendix II for a full list of these companies.

We intend to disclose the calculations performed for these preliminary results to interested parties within five days after the date of publication of this notice in accordance with 19 CFR 351.224(b).

Public Comment

Pursuant to 19 CFR 351.309(c), interested parties may submit case briefs no later than 30 days after the date of publication of this notice. Rebuttal briefs, limited to issues raised in the case briefs, may be filed no later than seven days after the date for filing case briefs.¹² Commerce modified certain of its requirements for serving documents containing business proprietary information until further notice.¹³ Parties who submit case briefs or rebuttal briefs in this proceeding are encouraged to submit with each argument: (1) A statement of the issue; (2) a brief summary of the argument; and (3) a table of authorities.¹⁴ Executive summaries should be limited to five pages total, including footnotes. Case and rebuttal briefs should be filed using ACCESS ¹⁵ and must be served on interested parties.¹⁶ An electronically filed document must be received successfully in its entirety by Commerce's electronic records system, ACCESS, by 5:00 p.m. Eastern Time on the date that the document is due.

¹² See 19 CFR 351.309(d).

¹³ See Temporary Rule Modifying AD/CVD Service Requirements Due to COVID-19; Extension of Effective Period, 85 FR 41363 (July 10, 2020).

¹⁴ See 19 CFR 351.309(c)(2) and (d)(2).

¹⁵ See generally 19 CFR 351.303.

¹⁶ See 19 CFR 351.303(f).

Pursuant to 19 CFR 351.310(c), interested parties who wish to request a hearing, must submit a written request to the Assistant Secretary for Enforcement and Compliance, filed electronically via ACCESS. An electronically filed document must be received successfully in its entirety by Commerce's electronic records system, ACCESS, by 5:00 p.m. Eastern Time within 30 days after the date of publication of this notice.¹⁷ Requests should contain: (1) The party's name, address and telephone number; (2) the number of participants; and (3) a list of issues to be discussed. If a request for a hearing is made, Commerce intends to hold the hearing at a time and date to be determined. Issues raised in the hearing will be limited to those raised in the briefs. Parties should confirm the date, time, and location of the hearing two days before the scheduled date.

¹⁷ See 19 CFR 351.310(c).

Unless the deadline is extended, Commerce intends to issue the final results of this revies, including the results of its analysis of issues raised by parties in their comments, within 120 days after the publication of these preliminary results, pursuant to section 751(a)(3)(A) of the Act and 19 CFR 351.213(h).

Assessment Rates

Upon issuing the final results, Commerce will determine, and CBP shall assess, antidumping duties on all appropriate entries covered by this review. If an examined respondent's weighted-average dumping margin is above de minimis (i.e., 0.5 percent) in the final results of this review, we will calculate importer-specific ad valorem duty assessment rates based on the ratio of the total amount of antidumping duties calculated for the examined sales to the total entered value of the examined sales to that importer, and we will instruct CBP to assess antidumping duties on all appropriate entries covered by this. Where either the respondent's weighted-average dumping margin is zero or de minimis within the meaning of 19 CFR 351.106(c)(1), or an importer-specific assessment rate is zero or de minimis, we will instruct CBP to liquidate the appropriate entries without regard to antidumping duties.

For entries of subject merchandise during the POR produced by Husteel or Hyundai Steel for which they did not know that the merchandise was destined to the United States and for all entries attributed to HiSteel, for which we found no shipments during the POR, we will instruct CBP to liquidate those entries at the all-others rate if there is no rate for the intermediate company(ies) involved in the transaction.¹⁸

¹⁸ For a full discussion of this practice, see Antidumping and Countervailing Duty Proceedings: Assessment of Antidumping Duties, 68 FR 23954 (May 6, 2003).

For the companies that were not selected for individual review, we intend to assign an assessment rate based on the methodology described in the “Rates for Non-Examined Companies” section. The final results of this review shall be the basis for the assessment of antidumping duties on entries of merchandise covered by this review where applicable.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of CWP from Korea entered, or withdrawn from warehouse, for consumption on or after the date of publication as provided by section 751(a)(2) of the Act: (1) The cash deposit rate for companies subject to this review will be the rates established in the final results of this administrative review; (2) for merchandise exported by a company not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 4.80 percent,¹⁹ the all-others rate established in the less-than-fair-value investigation. These cash deposit requirements, when imposed, shall remain in effect until further notice.

¹⁹ See Order.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

Commerce is issuing and publishing the preliminary results of this review in accordance with sections 751(a)(1) and 777(i) of the Act, and 19 CFR 351.221(b)(4).

Dated: November 30, 2021.
Ryan Majerus,
Deputy Assistant Secretary for Policy and Negotiations, performing the non-exclusive functions and duties of the Assistant Secretary for Enforcement and Compliance.

Appendix I—List of Topics Discussed in the Preliminary Decision Memorandum

I. Summary

II. Background

III. Scope of the Order

IV. Rates for Non-Examined Companies

V. Preliminary Determination of No Shipments

VI. Affiliation

VII. Discussion of the Methodology

VIII. Normal Value

IX. Currency Conversion

X. Recommendation

Appendix II—List of Companies Not Individually Examined

1. Aju Besteel

2. Bookook Steel

3. Chang Won Bending

4. Dae Ryung

5. Daewoo Shipbuilding & Marine Engineering (Dsme)

6. Daiduck Piping

7. Dong Yang Steel Pipe

8. Dongbu Steel ²⁰

²⁰ This company is also known as Dongbu Steel Co., Ltd.

9. Eew Korea Company

10. Hyundai Rb

11. Kiduck Industries

12. Kum Kang Kind

13. Kumsoo Connecting

14. Miju Steel Mfg.²¹

²¹ This company is also known as Miju Steel Manufacturing.

15. Nexteel Co., Ltd.²²

²² This company is also known as Nexteel.

16. Samkang M&T

17. Seah Fs

18. Seah Steel ²³

²³ This company is also known as Seah Steel Corporation.

19. Steel Flower

20. Vesta Co., Ltd.

21. Ycp Co.

[FR Doc. 2021-26465 Filed 12-6-21; 8:45 am]

BILLING CODE 3510-DS-P